DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 79 FR 26258-26259 dated May 7, 2014).

This notice reflects organizational changes in the Health Resources and Services Administration. Specifically, this notice updates functional statements within the HIV/AIDS Bureau (RV). (1) Updates the functions in the Office of the Associate Administrator (RV); (2) updates the functions in the Division of Community HIV/AIDS Programs (RV6); (3) transfers the Organizational Development Unit function from the Office of the Associate Administrator (RV) to the Office of Operations and Management (RV2); and (4) transfers the Clinical Unit function from the Office of the Associate Administrator (RV) to the Division of Policy and Data (RVA).

Chapter RV—HIV/AIDS Bureau

Section RV-20, Functions

(1) Delete the functional statement for the Office of the Associate Administrator (RV), and replace in its entirety; (2) delete the functional statement for the Office of Operations and Management (RV2) and replace in its entirety; (3) delete the functional statement for the Division of Policy and Data (RVA) and replace in its entirety; and (4) delete the functional statement for the Division of Community HIV/AIDS Programs (RV6) and replace in its entirety.

Office of the Associate Administrator (RV)

The Office of the Associate Administrator provides leadership and direction for the HIV/AIDS programs and activities of the Bureau and oversees its relationship with other national health programs. Specifically: (1) Promotes the implementation of the National HIV/AIDS Strategy within the Agency and among Agency-funded programs; (2) coordinates the formulation of an overall strategy and policy for programs established by Title XXVI of the PHS Act as amended by the Ryan White HIV/AIDS Treatment Extension Act of 2009, P.L. 111-87; (3) coordinates the internal functions of the Bureau and its relationships with other Agency Bureaus and Offices; (4) establishes HIV/AIDS program objectives, alternatives, and policy positions consistent with broad Administration guidelines; (5) provides leadership for and oversight of the Bureau's budgetary development and implementation processes; (6) provides clinical leadership to Ryan White-funded programs and global HIV/AIDS programs; (7) oversees the implementation of the Global HIV/AIDS Program as part of the President's Emergency Plan for AIDS Relief; (8) serves as a principal contact and advisor to the Department and other parties on matters pertaining to the planning and development of HIV/AIDS-related health delivery systems; (9) reviews HIV/AIDS related program activities to determine their consistency with established policies; (10) develops and oversees operating policies and procedures for the Bureau; (11) oversees and directs the planning, implementation, and evaluation of special studies related to HIV/AIDS and public health within the Bureau; (12) prioritizes technical assistance needs in consultation with each division/office; (13) plans, develops, implements and evaluates the Bureau's organizational and staff development, and staff training activities inclusive of guiding action steps addressing annual Employee Viewpoint Survey results; (14) plans, implements, and evaluates the Bureau's national Technical Assistance conference calls, TARGET Web site, Webex trainings and other distance learning modalities; (15) represents the Agency in HIV/AIDS related conferences, consultations, and meetings with other Operating Divisions, Office of the Assistance Secretary for Health, the Department of State, and the White House; (16) coordinates the development and distribution of all Bureau communication activities, materials and products internally and externally; (17) provides leadership for and oversees Bureau's grants processes; and (18) oversees Bureau Executive Secretariat functions and coordinates HRSA responses and comments on HIV/AIDS-related reports, position papers, guidance documents, correspondence, and related issues, including Freedom of Information Act requests.

Office of Operations and Management (RV2)

The Office of Operations and Management headed by the Director and the Bureau's Executive Officer provides administrative and fiscal guidance and support for HAB and is responsible for all budgetary, administrative, human resources, operations, facility management, contracting, training and organizational development functions. The Office also oversees and coordinates all Bureau program integrity activities.

Division of Policy and Data (RVA)

The Division of Policy and Data serves as the Bureau's principal source of program data collection and evaluation and the focal point for coordination of program performance activities, policy analysis, and development of policy guidance. The division coordinates all technical assistance activities for the bureau in collaboration with each division and conducts evaluation studies on emerging health service delivery issues and their effects upon clients, providers, grantees, and systems of care and coordinates clinical quality improvement activities.

Division of Community HIV/AIDS Programs (RV6)

The Division of Community HIV/AIDS Programs provides national leadership and manages the implementation of Parts C, D, and F under Title XXVI of the PHS Act as amended by the Ryan White HIV/AIDS Treatment Extension Act of 2009, P.L. 111-87 (the Ryan White HIV/AIDS Program) including, Planning and Capacity Development Programs (Part C), HIV Early Intervention Services Program (Part C), Grants for Coordination Services and Access to Research for Women, Infants, Children, and Youth Program (Part D), and the Dental Reimbursement and Community Based Dental Partnership Program (Part F). The division promotes the implementation of the National HIV/AIDS Strategy among Part C, D, and F/Dental programs and administers programs and activities related to: (1) Providing comprehensive health services to persons infected with HIV in medically underserved areas; (2) demonstrates strategies and innovative models for the development and provision of HIV primary care services; (3) coordinates services for women of child-bearing age with HIV/AIDS, infants, children, and youth; (4) assists dental schools and other eligible institutions with respect to oral health care to patients with HIV; and (5) in collaboration with the Division of Policy and Data, the division assesses effectiveness of technical assistance efforts/initiatives, identifies new technical assistance needs and priority areas, and participates in the bureau-wide technical assistance workgroup. The division manages the portfolio of grantees and programs who provide comprehensive HIV primary care, treatment, and HIV-related support services.

Section RV-30, Delegations of Authority

All delegations of authority and re-delegations of authority made to HRSA officials that were in effect immediately prior to this reorganization, and that are consistent with this reorganization, shall continue in effect pending further re-delegation.

This reorganization is effective upon date of signature.

Dated: May 19, 2014.
Mary K. Wakefield,
Administrator.

[FR Doc. 2014-12321 Filed 5-27-14; 8:45 am]

BILLING CODE 4165-15-P